DEPARTMENT OF THE TREASURY

Submission for OMB Review; Comment Request

September 23, 2014.

The Department of the Treasury will submit the following information collection request to the Office of Management and Budget (OMB) for review and clearance in accordance with the Paperwork Reduction Act of 1995, Public Law 104-13, on or after the date of publication of this notice.

DATES: Comments should be received on or before October 29, 2014 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Community Development Financial Institutions (CDFI) Fund

OMB Number: 1559-0044.

Type of Review: Revision of a currently approved collection.

Title: Bond Guarantee Program.

Abstract: The purpose of the Community Development Financial Institutions (CDFI) Bond Guarantee Program (BG Program) is to support CDFI lending by providing Guarantees for Bonds issued by Qualified Issuers as part of a Bond Issue for Eligible Community or Economic Development Purposes.

Affected Public: Private Sector: Businesses or other for-profits, Not-for-profit institutions.

Estimated Number of Annual Responses: 570.

Estimated Annual Burden Hours: 9,100.

Reason for Change: The CDFI Fund has developed two new information collection instruments to support the collection of financial and impact data from borrowers under the Bond Guarantee (BG) Program. The information collected is crucial for adequately managing and monitoring the total portfolio of outstanding Bond Loans.

The Financial Condition Monitoring (FCM) Report is a quarterly report submission, allowing for the BG Program to monitor and compare eligible CDFIs' balance sheets, income statements and cash flows, and portfolio quality in a standard format.

The Pledged Loan Monitoring (PLM) Report is a monthly report submission, allowing the BG Program to monitor the terms, payment performance and value of the underlying collateral (i.e., pledged loan receivables) for the Bond Loans on a real-time basis.

Dawn D. Wolfgang,
Treasury PRA Clearance Officer.

[FR Doc. 2014-23046 Filed 9-26-14; 8:45 am]

BILLING CODE 4810-70-P